INTERNATIONAL TRADE COMMISSION

[Investigation No. 731-TA-1110 (Second Review)]

Sodium Hexametaphosphate From China

Determination

On the basis of the record ¹ developed in the subject five-year review, the United States International Trade Commission (“Commission”) determines, pursuant to the Tariff Act of 1930 (“the Act”), that revocation of the antidumping duty order on sodium hexametaphosphate from China would be likely to lead to continuation or recurrence of material injury to an industry in the United States within a reasonably foreseeable time.²

¹ The record is defined in sec. 207.2(f) of the Commission's Rules of Practice and Procedure (19 CFR 207.2(f)).

² Commissioner Meredith M. Broadbent did not participate in the vote.

Background

The Commission, pursuant to section 751(c) of the Act (19 U.S.C. 1675(c)), instituted this review on June 1, 2018 (83 FR 25488) and determined on September 4, 2018 that it would conduct an expedited review (83 FR 50958, October 10, 2018).

The Commission made this determination pursuant to section 751(c) of the Act (19 U.S.C. 1675(c)). It completed and filed its determination in this review on December 7, 2018. The views of the Commission are contained in USITC Publication 4840 (December 2018), entitled Sodium Hexametaphosphate from China: Investigation No. 731-TA-1110 (Second Review).

By order of the Commission.
Issued: December 7, 2018.
Lisa Barton,
Secretary to the Commission.

[FR Doc. 2018-26861 Filed 12-11-18; 8:45 am]

BILLING CODE 7020-02-P